DEPARTMENT OF HOUSING AND URBAN DEVELOPMENT

[Docket No. FR-5281-N-17]

Notice of Proposed Information Collection: Comment Request; Application for Healthy Homes and Lead Hazard Control Grant Programs and Quality Assurance Plans

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments due: May 4, 2009.

ADDRESSES: Interested persons are invited to submit comments regarding this proposal. Comments should refer to the proposal by name and/or OMB Control Number and should be sent to: Lillian L. Deitzer, Departmental Reports Management Officer, QDAM, Department of Housing and Urban Development, 451 Seventh Street, SW., Room 4176, Washington, DC 20410; telephone: 202-708-2374, (this is not a toll-free number) or e-mail Ms. Deitzer at Lillian_L._Deitzer@HUD.gov for a copy of the proposed form and other available information.

FOR FURTHER INFORMATION CONTACT: Warren Friedman, Senior Advisor, Department of Housing and Urban Development, 451 Seventh Street, SW., Washington, DC 20410; telephone 202-708-0667 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Application for Healthy Homes and Lead Hazard Control Grant Programs and Quality Addurance Plans.

OMB Control Number, if Applicable: 2539-0015.

Description of the Need for the Information and Proposed Use: This information is required in conjunction with the issuance of Notices of Funding Availability for approximately $180,000,000 for Healthy Homes and Lead Hazard Control Programs that are authorized under Title X of the Housing and Community Development Act of 1992, Public Law 102-550, Section 1011, the Housing and Urban Development Act of 1970, Sections 501 and 502, and other legislation.

After the award of grants, HUD's Office of Healthy Homes and Lead Hazard Control requires its Healthy Homes Demonstration, Healthy Homes Technical Studies grantees, and Lead Technical Studies grantees which are conducting research or significant evaluation activities, to submit a Quality Assurance Plan (QAP) to the Office for approval before they initiate data collection. This requirement also applies to Office of Healthy Homes and Lead Hazard Control contractors who conduct such research or evaluation activities. This requirement was established because quality assurance procedures ensure the accuracy and validity of data. The use of quality assurance plan templates helps to ensure that quality assurance activities are well planned and thorough, and standardizes the formatting of plans, which aides both the respondents in plan development and HUD staff in their review. The use of different templates for technical studies and demonstration projects was designed to reduce respondent burden by requiring more detailed information only for the technical studies (research) projects, consistent with their more rigorous quality assurance requirements.

Agency Form Numbers, if Applicable: HUD-96008, 96012, 96013, 96014, 96015, 96016, and standard grant forms.

Estimation of the Total Number of Hours Needed to Prepare the Information Collection Including Number of Respondents, Frequency of Response, and Hours of Response: Application Development: Number of respondents: 340; frequency of responses: 1; hours per response 80; burden hours: 27,200. Award of Grant: Number of respondents: 97; frequency of responses: 1; hours per response 16; burden hours: 1,552. Quality Assurance Plan: Number of respondents: 27; Frequency of response: 1; Hours per response: 24; Total Burden Hours: 648. Grant total of estimated burden hours: 29,400.

Status of the Proposed Information Collection: Revision of a currently approved collection.

Members of Affected Public: Potential applicants include State, Tribal, local governments, not-for-profit institutions and for-profit firms located in the U.S. State and units of general local government, and Federally recognized Native American Tribes.

Additional Information: The obligation to respond to this information collection is required to obtain or retain benefits.

Authority: Section 3506 of the Paperwork Reduction Act of 1995, 44 U.S.C. Chapter 35, as amended.

Dated: February 17, 2009.
Jon L. Gant,
Director, Office of Healthy Homes and Lead Hazard Control.

[FR Doc. E9-4691 Filed 3-4-09; 8:45 am]

BILLING CODE 4210-67-P